DEPARTMENT OF THE INTERIOR

Fish and Wildlife Service

[FWS-R8-ES-2015-N039; FXES11130800000-154-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before March 25, 2015.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-53771B

Applicant: Erin J. Bergman, Lemon Grove, California

The applicant requests a permit to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi), and take (survey by pursuit, handle, and live-capture) the Quino checkerspot butterfly (Euphydryas editha quino) in conjunction with survey and population monitoring activities throughout the range of the species in California for the purpose of enhancing the species' survival.

Permit No. TE-039640

Applicant: Kris R. Alberts, San Diego, California

The applicant requests a permit amendment to take (locate and monitor nests) the southwestern willow flycatcher (Empidonax traillii extimus) in conjunction with population monitoring activities throughout the range of the species for the purpose of enhancing the species' survival.

Permit No. TE-077388

Applicant: Oregon Zoo, Portland, Oregon

The applicant requests a permit renewal and amendment to take (receive captive produced nestlings, propagate in captivity, handle, provide veterinary care, publicly display, transport, and release into the wild) the California condor (Gymnogyps californianus) in conjunction with captive propagation and population management activities throughout the range of the species in California for the purpose of enhancing the species' survival.

Permit No. TE-25164A

Applicant: Catherine A. Little, Woodland, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-022360

Applicant: United States Geological Survey, Henderson, Nevada

The applicant requests a permit renewal to remove/reduce to possession the Swallenia alexandrae (Eureka Dune grass) and Oenothera californica subsp. eurekensis (O. avita subsp. e.) (Eureka Valley evening-primrose) from lands under Federal jurisdiction in conjunction with restoration activities in Inyo County, California, for the purpose of enhancing the species' survival.

Permit No. TE-53825B

Applicant: Zoological Society of San Diego, Escondido, California

The applicant requests a permit to take (harass by survey, locate and monitor nests) the California least tern (Sternula antillarum browni) (Sterna a. browni) in conjunction with surveys, population monitoring, and research activities at Marine Corps Base Camp Pendleton and Naval Amphibious Base Coronado, California, for the purpose of enhancing the species' survival.

Permit No. TE-42833A

Applicant: Ian E.D. Maunsell, San Diego, California

The applicant requests a permit renewal to take (harass by survey) the light-footed Ridgway's rail (light-footed clapper r.) (Rallus obsoletus levipes) (R. longirostris l.) and Yuma Ridgway's rail (Yuma clapper r.) (Rallus obsoletus yumanensis) (R. longirostris y.) in conjunction with surveys and population monitoring throughout the range of the species in California for the purpose of enhancing the species' survival.

Permit No. TE-25864A

Applicant: Richard C. Stolpe, Carlsbad, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities throughout the range of the species in California for the purpose of enhancing the species' survival.

Permit No. TE-038701

Applicant: Bonnie L. Peterson, Lakeside, California

The applicant requests a permit renewal and amendment to take (locate and monitor nests, and remove brown-headed cowbird (Molothrus ater) eggs and chicks from parasitized nests) the least Bell's vireo (Vireo bellii pusillus), take (harass by survey, locate and monitor nests, and remove brown-headed cowbird eggs and chicks from parasitized nests) the southwestern willow flycatcher (Empidonax traillii extimus), take (harass by survey, and locate and monitor nests, capture, handle, handle/float eggs, weigh, band, color-band, and release) the western snowy plover (Pacific Coast population distinct population segment (DPS)) (Charadrius nivosus nivosus), take (locate and monitor nests, capture, handle, weigh, band, color-band, and release) the California least tern (Sternula antillarum browni) (Sterna a. browni), take (survey by pursuit, handle, and live-capture) the Quino checkerspot butterfly (Euphydryas editha quino), and take (harass by survey) the light-footed Ridgway's rail (light-footed clapper r.) (Rallus obsoletus levipes) (R. longirostris l.), in conjunction with surveys and population monitoring activities in Los Angeles, Orange, Riverside, San Diego, and Imperial Counties, California, for the purpose of enhancing the species' survival.

Permit No. TE-19226A

Applicant: Jillian S. Moore, Oceanside, California

The applicant requests a permit renewal to take (capture, collect, and collect vouchers) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with survey activities in San Diego, Orange, Riverside, San Bernardino, Imperial, Los Angeles, Ventura, Kern, Santa Barbara, and San Luis Obispo Counties, California, for the purpose of enhancing the species' survival.

Permit No. TE-200339

Applicant: Sarah M. Foster, Sacramento, California

The applicant requests a permit amendment to take (harass by survey) the California Ridgway's rail (California clapper r.) (Rallus obsoletus obsoletus) (R. longirostris o.) in conjunction with surveys and population monitoring throughout the range of the species in California for the purpose of enhancing the species' survival.

Permit No. TE-829204

Applicant: Harry Lee Jones, Lake Forest, California

The applicant requests a permit amendment to take (attach transmitters, conduct radio telemetry, and mark) the arroyo toad (arroyo southwestern) (Anaxyrus californicus) in conjunction with research and population monitoring activities at Naval Weapons Station Seal Beach Detachment Fallbrook in San Diego County, California, for the purpose of enhancing the species' survival.

Permit No. TE-006328

Applicant: Brian M. Drake, Tehachapi, California

The applicant requests a permit amendment to take (survey, capture, handle and release) the Stephens' kangaroo rat (Dipodomys stephensi) in conjunction with survey and population monitoring activities throughout the range of the species in California for the purpose of enhancing the species' survival.

Permit No. TE-060175

Applicant: Teresa L. Gonzalez, La Quinta, California

The applicant requests a permit renewal to take (harass by survey, locate and monitor nests, and remove brown-headed cowbird eggs and chicks from parasitized nests) the southwestern willow flycatcher (Empidonax traillii extimus), and take (locate and monitor nests, and remove brown-headed cowbird eggs and chicks from parasitized nests) the least Bell's vireo (Vireo bellii pusillus) in conjunction with surveys and population monitoring activities in San Diego, Orange, Riverside, Los Angeles, San Bernardino, and Ventura Counties, California, for the purpose of enhancing the species' survival.

Permit No. TE-095868

Applicant: David A. Kisner, Orcutt, California

The applicant requests a permit renewal to take (harass by survey, locate and monitor nests, and remove brown-headed cowbird eggs and chicks from parasitized nests) the southwestern willow flycatcher (Empidonax traillii extimus), and take (locate and monitor nests, and remove brown-headed cowbird eggs and chicks from parasitized nests) the least Bell's vireo (Vireo bellii pusillus) in conjunction with surveys and population monitoring activities throughout the range of the species in California for the purpose of enhancing the species' survival.

Permit No. TE-122026

Applicant: Tracy Y. Bailey, Ridgecrest, California

The applicant requests a permit renewal to take (survey, capture, handle and release) the Stephens' kangaroo rat (Dipodomys stephensi), San Bernardino kangaroo rat (Dipodomys merriami parvus), Pacific pocket mouse (Perognathus longimembris pacificus), and Morro Bay kangaroo rat (Dipodomys heermanni morroensis) in conjunction with survey and population monitoring activities throughout the range of the species in California for the purpose of enhancing the species' survival.

Permit No. TE-56626B

Applicant: Robin E. Dakin, San Jose, California

The applicant requests a permit to take (harass by survey, capture, handle, and release) the California tiger salamander (Santa Barbara County DPS) and Sonoma County DPS) (Ambystoma californiense) in conjunction with surveys and population monitoring throughout the range of the species in California for the purpose of enhancing the species' survival.

Permit No. TE-20186A

Applicant: Garrett R. Huffman, Yauapai, Arizona

The applicant requests a permit to take (survey by pursuit, handle, and live-capture) the Quino checkerspot butterfly (Euphydryas editha quino) in conjunction with survey and population monitoring activities throughout the range of the species in California for the purpose of enhancing the species' survival.

Permit No. TE-56489B

Applicant: Jonathan T. Koehler, Napa, California

The applicant requests a permit to take (live-capture, handle, remove/relocate, and release) the California freshwater shrimp (Syncaris pacifica) in conjunction with survey, population monitoring, and restoration activities in Napa County, California, for the purpose of enhancing the species' survival.

Permit No. TE-15544A

Applicant: Christine L. Beck, San Diego, California

The applicant requests a permit renewal to take (locate and monitor nests) the least Bell's vireo (Vireo bellii pusillus), and take (survey, locate and monitor nests, capture, handle, band, and release) the California least tern (Sternula antillarum browni) (Sterna a. browni) in conjunction with surveys and population monitoring activities throughout the range of the species in California for the purpose of enhancing the species' survival.

Permit No. TE-824123

Applicant: SWCA Environmental Consultants, San Luis Obispo, California

The applicant requests a permit renewal to take (locate, handle, remove/relocate, and release) the Morro shoulderband snail (Helminthoglypta walkeriana) in conjunction with survey and habitat enhancement activities, and a permit amendment to take (survey, capture, handle, and release) the giant kangaroo rat (Dipodomys ingens), Tipton kangaroo rat (Dipodomys nitratoides nitratoides), and Fresno kangaroo rat (Dipodomys nitratoides exilis) in conjunction with survey and population monitoring activities throughout the range of the species in California for the purpose of enhancing the species' survival.

Permit No. TE-057065B

Applicant: Steven G. Morris, Huntington Beach, California

The applicant requests a permit to take (harass by survey) the southwestern willow flycatcher (Empidonax traillii extimus) in conjunction with survey activities throughout the range of the species in California for the purpose of enhancing the species' survival.

Permit No. TE-082233

Applicant: Marcus C. England, Los Angeles, California

The applicant requests a permit amendment to take (harass by survey, locate and monitor nests) the southwestern willow flycatcher (Empidonax traillii extimus), and take (locate and monitor nests) the least Bell's vireo (Vireo bellii pusillus) in conjunction with surveys and population monitoring activities throughout the range of the species in California for the purpose of enhancing the species' survival.

Permit No. TE-787037

Applicant: Marie Simovich, San Diego, California

The applicant requests a permit amendment to take (collect cysts, juveniles, and adults) the San Diego fairy shrimp (Branchinecta sandiegonensis) in conjunction with voucher collection, species identification, and genetic analysis in San Diego County, California, for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Michael Long,
Acting Regional Director, Pacific Southwest Region, Sacramento, California.

[FR Doc. 2015-03600 Filed 2-20-15; 8:45 am]

BILLING CODE 4310-55-P